DEPARTMENT OF JUSTICE

Notice of Lodging of Consent Decree Under Comprehensive Environmental Response, Compensation and Liability Act

Under 28 CFR 50.7, notice is hereby given that on July 1, 2005, a proposed Consent Decree in United States v. Gerald Pelletier, Inc., Civil No. 1:05-cv-92, was lodged with the United States District Court for the District of Maine.

This action concerns the Hows Corner Superfund Site (“Site”), which is located in Plymouth, Maine. In this action, the United States asserted claims against Gerald Pelletier, Inc., under section 107(a) of CERCLA, 42 U.S.C. 9607(a), for recovery of response costs incurred regarding the Site. The State of Maine also filed a complaint against Gerald Pelletier, Inc., in which it asserted claims under section 107(a) of CERCLA, 42 U.S.C. 9607(a), and under the Maine Uncontrolled Sites Law, 38 M.R.S.A. section 1361 et seq., for recovery of response costs incurred regarding the Site. The proposed consent decree provides for Gerald Pelletier, Inc. to pay $17,638 to the United States and $3,632 to the State of Maine in reimbursement of past response costs at the Site. The decree provides that the United States and the State of Maine covenant not to sue Gerald Pelletier, Inc. under section 107(a) of CERCLA, and the State of Maine covenants not to sue Gerald Pelletier, Inc., under 38 M.R.S.A. section 1367, for past response costs regarding the Site.

The Department of Justice will receive for a period of thirty (30) days from the date of this publication comments relating to the Consent Decree. Comments should be addressed to the Assistant Attorney General, Environment and Natural Resources Division, PO Box 7611, U.S. Department of Justice, Washington, DC 20044-7611, and should refer to United States v. Gerald Pelletier, Inc., D.J. No. 90-11-3-1733/5.

The Consent Decree may be examined at the Office of the United States Attorney for the District of Maine, Margaret Chase Smith Federal Bldg., 202 Harlow Street, Room 111, Bangor, ME 04401, and at the U.S. Environmental Protection Agency, Region I Records Center, One Congress Street, Suite 1100, Boston, Massachusetts 02203. During the public comment period, the Consent Decree also may be examined on the following Department of Justice Web site, http://www.usdoj.gov/enrd/open.html. A copy of the Consent Decree also may be obtained by mail from the Consent Decree Library, PO Box 7611, U.S. Department of Justice, Washington, DC 20044-7611 or by faxing or e-mailing a request to Tonia Fleetwood (tonia.fleetwood@usdoj.gov) fax No. (202) 514-0097, phone confirmation number (202) 514-1547. In requesting a copy from the Consent Decree Library, please enclose a check in the amount of $5.00 (25 cents per page reproduction cost) payable to the U.S. Treasury.

Ronald G. Gluck,
Assistant Section Chief, Environmental Enforcement Section, Environment and Natural Resources Division.

[FR Doc. 05-14275 Filed 7-19-05; 8:45 am]

BILLING CODE 4410-15-M